DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Andrea M. Gacki, Director, tel.: 202-622-2480; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On May 20, 2021, OFAC determined that the property and interests in property subject to U.S. jurisdiction of the following person are blocked under the relevant sanctions authorities listed below.

Individual

AL-GHAMARI, Muhammad Abd Al-Karim (a.k.a. AL-GHAMARI, Muhammad `Abd-al-Karim Ahmad Husayn; a.k.a. AL-GHOMMARI, Muhammad; a.k.a. GHOMMARI, Muhammad; a.k.a. “Sayyid Hashim”), Yemen; DOB 1979; alt. DOB 1984; POB Izla Dhaen, Wahha District, Hajjar Governorate, Yemen; nationality Yemen; Gender Male (individual) [YEMEN].

Designated pursuant to section 1(a) of Executive Order 13611 of May 16, 2012, “Blocking Property of Persons Threatening the Peace, Security, or Stability of Yemen,” 3 CFR, 2001 Comp., p. 786, 77 FR 29533 (E.O. 13611), for having engaged in acts that directly or indirectly threaten the peace, security, or stability of Yemen, such as acts that obstruct the implementation of the agreement of November 23, 2011, between the Government of Yemen and those in opposition to it, which provides for a peaceful transition of power in Yemen, or that obstruct the political process in Yemen.

Dated: May 20, 2021.
Bradley T. Smith,
Acting Director, Office of Foreign Assets Control, U.S. Department of the Treasury.

[FR Doc. 2021-11260 Filed 5-26-21; 8:45 am]

BILLING CODE 4810-AL-P